DEPARTMENT OF DEFENSE

Defense Acquisition Regulations System

[Docket Number DARS-2022-0028]

Department of Defense Catalog Data Standard

AGENCY: Defense Acquisition Regulations System, Department of Defense (DoD).

ACTION: Request for information.

SUMMARY: DoD is exploring the use of a standard electronic format to capture commercial item catalog information on products or services offered by potential suppliers. DoD requests input on the notional approach, the data format, and the impacts of the approach.

DATES: Submission of Comments: Interested parties should submit written comments to the address shown in ADDRESSES on or before January 3, 2023 to be considered in the implementation planning.

Public meeting: A virtual public meeting will be held on December 6, 2022, from 10:30 a.m. to 2:30 p.m. Eastern time. The public meeting will end at the stated time or when the discussion ends, whichever comes first.

Registration: Registration to participate in this meeting must be received no later than close of business on November 22, 2022. Information on how to register for the public meeting may be found in the SUPPLEMENTARY INFORMATION section of this notice.

ADDRESSES: Public Meeting: A virtual public meeting will be held using Zoom video conferencing software.

Submission of Comments: Submit comments to the questions provided below, using any of the following methods:

○ Federal eRulemaking Portal: https://www.regulations.gov. Search for “Docket Number DARS-2022-0028.” Select “Comment” and follow the instructions to submit a comment. Please include your name, company name (if any), and “Docket Number DARS-2022-0028” on any attached document(s).

○ Email: osd.dfars@mail.mil. Include “DoD Catalog Data Standard” in the subject line of the message.

Comments received generally will be posted without change to https://www.regulations.gov, including any personal information provided. To confirm receipt of your comment(s), please check https://www.regulations.gov, approximately two to three days after submission to verify posting.

FOR FURTHER INFORMATION CONTACT: Mr. Bruce Propert, telephone 703-697-4384.

SUPPLEMENTARY INFORMATION:

A. Notional DoD Catalog Data Standard

DoD has developed a high level of visibility into its contracting practices through the use of automation and data standards. For example, the Procurement Data Standard has enabled DoD to capture contract awards in discrete data elements, allowing unprecedented insights into DoD's purchases. Data capture has also enabled implementation of tools, notably the Supplier Performance Module (SPM) in the Procurement Integrated Enterprise Environment, to improve the quality of information available when making small dollar purchases. SPM enables DoD to apply information on past performance with specific suppliers and items through reuse of data captured as a normal part of the business process. Another area in which DoD has been able to improve the buying process through automation is the FedMall, which enables purchase card holders to order items through existing Government ordering instruments through the use of a shopping cart analogous to that found on commercial sales platforms.

Efforts in both of these areas for product or service identification have been constrained by existing business practices within the Government. For example, some Government-wide ordering instruments do not have a price listed for their goods; users are directed to the company website for commercially available pricing. Different companies often describe the same commercial product or service in different ways, hampering market research. Further, legislation specific to the Department of Defense requires collection of additional information relevant to products. Providing current and accurate product data descriptions, pricing, and commercial catalog standards is essential to understanding the market.

Commercial companies' offerings are provided to the Government in the form of catalogs, both hard copy and online, in the form of PDFs or hand-entered data. Electronic data formats, such as the EDI 832 standard, have been used in the past by larger companies to try to automate the uploading and maintenance of catalog data. However, newer data formats, such as eXtensible Markup Language, or XML, provide greater flexibility and ease of programming that can make electronic commercial catalogs possible for more companies.

Using XML, DoD has developed a draft Catalog Data Standard (CDS) which could be used by companies to provide their catalogs to the Government, as well as to update and maintain prices once the catalog has been provided. The notional CDS was developed based on review of the existing American National Standards Institute X12 832 Price/Sales Catalog, as well as review of existing catalog data formats in use across various reseller websites and reviews of actual product catalogs for a wide range of items.

The objectives of the notional CDS are as follows:

1. Capture commercial catalog descriptions and prices for existing and future ordering instruments to eliminate manual efforts to capture catalog prices from websites and printed documents.

2. Ensure uniformity in the data used to describe parts and services that are identical but have varying descriptions in the marketplace.

3. Enable use of existing price lists to competitively place purchase orders based on the prices currently available, thus eliminating the need for multiple requests for quotes.

4. Improve traceability of prices over time through uniform item descriptions.

5. Precisely identify products offered and their origins in order to identify and eliminate counterfeits and trace sources of supply to ensure security.

6. Enable comparison of proposed item prices with similar purchases both by the Government and by other contractors.

The Government has historically been able to identify like items through the cataloging process run by the Federal Logistics Information Service (FLIS), which assigns National Stock Numbers (NSNs) to commonly ordered supplies. However, there are many commercial products that are not assigned NSNs (approximately 95% of DoD-purchased items currently do not have an NSN). The focus of the notional CDS is commercial, non-NSN items. In the event an item is identified as a candidate for an NSN it would be fed into the existing FLIS process. The intent of the notional CDS is to capture cataloging data for those products and services that would not have an NSN assigned, including software, and certain categories of common commercial products and services which may have other consensus standard identifiers applied. Therefore, the intent behind the notional CDS is to leverage commercial cataloging and identification processes to enable standard identification of items beyond those covered by the NSN process.

DoD is posting the following draft documents for comment at https://dodprocurementtoolbox.com/site-pages/ebusiness-data-standards-schemas:

1. The Catalog Data Standard (Discussion Draft), an XML Schema Definition (.XSD) file that defines the format of the data that would be captured and the relationships between the data elements. This file is best viewed using a dedicated XML reader.

2. An Enumerations and Annotations document (Discussion Draft), a Microsoft Excel (.XLS) file that lists allowable values for certain elements within the XSD.

3. A Concept of Operations (Discussion Draft) Microsoft Word document, which explains how DoD would receive, store, maintain, and use the catalogs.

DoD requests comments on the following areas:

1. The Notional CDS Schema Structure and Formats. Defense Pricing and Contracting will host a virtual public meeting to describe the notional schema and how it might be used with ordering instruments, simplified acquisitions, and submission of cost and pricing data.

2. Enumerations. DoD requests inputs in particular on:

a. Existing industry standards that can be used to identify products across suppliers within a given industry, such as pharmaceuticals.

b. Standard descriptive information that can also be used to identify characteristics of items within a particular industry or set of industries.

c. Standards for defining commercial services that are used within a specific industry such as automotive vehicle maintenance or medical procedures.

3. Authoritative Sources. For any sources of enumerations identified, DoD requests input on whether authoritative sources exist that can validate either the information or the formats for the information.

4. Concept of Operations (Discussion Draft). DoD requests comments on the notional Concept of Operations document.

5. Use of catalog submissions as standing price quotations. DoD requests comments on the potential use of the notional CDS in the context of Federal Acquisition Regulation section 13.103.

6. Use of catalogs as baseline documents in developing blanket purchase agreements or other ordering instruments.

7. Ability to map existing catalog data to the XML format in the notional CDS.

8. Cost to develop and deliver the catalogs using the notional CDS, and the extent to which those costs would be offset by:

a. Eliminating the need to maintain Government-specific information on contractor websites.

b. Reducing the volume of requests for quotations by use of the catalog.

9. Use of the notional CDS for submitting bills of materials as either prime contractors to the Government or as suppliers/subcontractors to prime contractors or higher tier subcontractors.

10. Any other general comments on the notional CDS and potential uses.

B. Public Meeting Information

DoD plans to hold a public meeting to obtain input from the private sector and interested parties in Government regarding the notional CDS, data format, and potential impact on the public.

Registration: Individuals wishing to participate in the virtual meeting must register by November 22, 2022, to facilitate entry to the meeting. Interested parties may register for the meeting by sending the following information via email to osd.dfars@mail.mil. Include “Public Meeting, DoD Catalog Data Standard” in the subject line of the message.

• Full name.

• Valid email address, which will be used for admittance to the meeting.

• Valid telephone number, which will serve as a secondary connection method. Registrants must provide the telephone number they plan on using to connect to the virtual meeting.

• Company or organization name.

Correspondence, Comments, and Presentations: Please cite “Public Meeting, DoD Catalog Data Standard” in all correspondence related to the public meeting. There will be no transcription at the meeting.

Authority: DoD Instruction 5000.35, Defense Acquisition Regulations (DAR) System.

Jennifer D. Johnson,
Editor/Publisher, Defense Acquisition Regulations System.

[FR Doc. 2022-24057 Filed 11-3-22; 8:45 am]

BILLING CODE 5001-06-P